Title 3—

The President

Proclamation 7828 of October 7, 2004

Leif Erikson Day, 2004

By the President of the United States of America

A Proclamation

More than 1,000 years ago, Leif Erikson led his crew on a journey across the Atlantic, becoming the first European known to have set foot on North American soil. Every October, we honor this courageous Viking explorer, his historic voyage, and the rich heritage of Nordic Americans.

Immigrants from Denmark, Finland, Iceland, Norway, and Sweden and their descendants have made great contributions to our Nation in the fields of business, politics, the arts, education, agriculture, and other areas. Nordic Americans have also made a significant mark on our country's society and culture, and have helped to establish and define America's most cherished principles. Their energy and spirit have inspired others, and their courage, skill, and determination have played an important role in the development of our country. Today, millions of people in the United States trace their origins to these Nordic countries, and their contributions to America make our country stronger and better.

On this day, we also recognize our longstanding ties to these nations that were home to the ancestors of many Americans. Together, we continue to work to advance prosperity, expand freedom, and increase stability and security in Europe and elsewhere in the world.

To honor Leif Erikson, the courageous son of Iceland and grandson of Norway, and to celebrate our citizens of Nordic-American heritage, the Congress, by joint resolution (Public Law 88-566) approved on September 2, 1964, has authorized and requested the President to proclaim October 9 of each year as “Leif Erikson Day.”

NOW, THEREFORE, I, GEORGE W. BUSH, President of the United States of America, do hereby proclaim October 9, 2004, as Leif Erikson Day. I call upon all Americans to observe this day with appropriate ceremonies, activities, and programs to honor our rich Nordic-American heritage.

IN WITNESS WHEREOF, I have hereunto set my hand this seventh day of October, in the year of our Lord two thousand four, and of the Independence of the United States of America the two hundred and twenty-ninth.

B

[FR Doc. 04-23012

Filed 10-8-04; 10:40 am]

Billing code 3195-01-P